DEPARTMENT OF THE INTERIOR

Bureau of Land Management

[OR-110-5882-PO-MD75; HAG05-0107]

Notice of Meetings

AGENCY: Medford District, Bureau of Land Management, DOI.

ACTION: Notice of meetings.

SUMMARY: The Medford District Resource Advisory Committee will meet in Medford to gain a common understanding of the process related to Pub. L. 106-393, tour project sites, and discuss proposed fiscal year 2006 projects. Agenda topics include background and history of the Secure Rural Schools and Community Self-Determination Act, election of a Chairperson and Vice Chairperson, and development of a common vision; on-site inspections of 2005 projects and proposed 2006 projects; and presentations and discussions regarding proposed 2006 Title II projects.

DATES: See SUPPLEMENTARY INFORMATION section for meeting dates.

ADDRESSES: The field trips will start from, and the meetings will be held at, the Medford District Office, located at 3040 Biddle Road, Medford, Oregon.

FOR FURTHER INFORMATION CONTACT: Karen Gillespie, Medford District Office (541-618-2424).

SUPPLEMENTARY INFORMATION: The field trip dates are:

1. July 14, 2005, 8:30 a.m. to 4 p.m.

2. July 28, 2005, 8:30 a.m. to 4 p.m.

The meeting dates are:

1. June 9, 2005, 8:30 a.m. to 2:30 p.m.

2. August 11, 2005, 8:30 a.m. to 4 p.m.

3. August 18, 2005, 8:30 a.m. to 4 p.m.

A public comment period will be held from 2 p.m. to 2:15 p.m. on June 9, 2005, and from 2 p.m. to 2:30 p.m. on August 11, 2005 and August 18, 2005.

(Authority: 43 CFR subpart 1784/Advisory Committees)

Mary L. Smelcer,
Acting District Manager, Medford.

[FR Doc. 05-8503 Filed 4-27-05; 8:45 am]

BILLING CODE 4310-33-P